ENVIRONMENTAL PROTECTION AGENCY

[OPP-2003-0116; FRL-7300-8]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by October 13, 2003, or May 16, 2003 for EPA Registration Numbers: 003008-00021, 075341-00001, and 075341-00007, orders will be issued canceling these registrations. The Agency will consider withdrawal requests postmarked no later than October 13, 2003 or 30 days after publication in the Federal Register for EPA Registration Numbers indicated above.

FOR FURTHER INFORMATION CONTACT: James A. Hollins, Information Resources Services Division (7502C), Office of Pesticide Programs, Environmental Protection Agency, 1200 Pennsylvania Ave., NW., Washington, DC 20460-0001; telephone number: (703) 305-5761, e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0116. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the“Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel 34 pesticide products registered under section 3 or 24(c) of FIFRA. These registrations are listed in sequence by registration number (or company number and 24(c) number) in Table 1 of this unit:

Table 1.—Registrations with Pending Requests for Cancellation
Registration no. | Product Name | Chemical Name
000100-00754 | Supracide 25WP | O,O-Dimethyl phosphorodithioate, S-ester with 4-(mercaptomethyl)-2-
000279 AZ-93-0002 | Prevail FT Termiticide | Cyclopropanecarboxylic acid, 3-(2,2-dichloroethenyl)-2,2-dimethyl-,
000279 AZ-93-0009 | Ammo 2.5 EC Insecticide | Cyclopropanecarboxylic acid, 3-(2,2-dichloroethenyl)-2,2-dimethyl-,
000279 AZ-95-0004 | Biflex TC Termiticide | (2-Methyl{1,1′-biphenyl}-3-yl)methyl 3-(2-chloro-3,3,3-trifluoro-1-
000572-00329 | Urban Insect Spray | O,O-Diethyl O-(3,5,6-trichloro-2-pyridyl) phosphorothioate
000655-00318 | Prentox Warfarin Technical | 3-(alpha-Acetonylbenzyl)-4-hydroxycoumarin
000655-00441 | Prentox Residual Concentrate DV-One | O,O-Diethyl O-(3,5,6-trichloro-2-pyridyl) phosphorothioate
|  | 2,2-Dichlorovinyl dimethyl phosphate
000655-00557 | Prentox Diazinon 14G | O,O-Diethyl O-(2-isopropyl-6-methyl-4-pyrimidinyl) phosphorothioate
000655-00644 | Prentox Pyronyl Oil Concentrate #1233-A | N-Octyl bicycloheptene dicarboximide
|  | (Butylcarbityl)(6-propylpiperonyl) ether 80% and related compounds 20%
|  | Pyrethrins
000655-00788 | Carbaryl 5D | 1-Naphthyl-N-methylcarbamate
000655-00789 | Prentox Carbaryl 10D | 1-Naphthyl-N-methylcarbamate
001757-00041 | Amerstat 233 | Tetrahydro-3,5-dimethyl-2H-1,3,5-thiadiazine-2-thione
003008-00021 | Osmose Special K-33 Preservative | Arsenic acid
|  | Chromic acid
|  | Cupric oxide
004822-00084 | Bolt Ant and Roach Killer | o-Isopropoxyphenyl methylcarbamate
004822-00318 | Raid Ant & Roach Killer | o-Isopropoxyphenyl methylcarbamate
|  | (Butylcarbityl)(6-propylpiperonyl) ether 80% and related compounds 20%
|  | Pyrethrins
005011-00060 | Formula GH-18 | 1,2-Dibromo-2,2-dichloroethyl dimethyl phosphate
007173-00072 | Rozol Rodenticide Mineral Oil Concentrate | 2-((p-Chlorophenyl)phenylacetyl)-1,3-indandione
007173-00216 | Maki Paraffin Blocks with Bitrex | 3-(3-(4′-Bromo-(1,1′-biphenyl)-4-yl)-3-hydroxy-1-phenylpropyl)-4-hydroxy-2H-1-
010163 AZ-02-0001 | Sandea Herbicide | 3-Chloro-5-(((((4,6-dimethoxy-2-pyrimidinyl)amino)carbonyl)amino)
010163 OR-99-0003 | Savey Ovicide/Miticide 50-WP | trans-5-(4-Chlorophenyl)-N-cyclohexyl-4-methyl-2-oxo-3-thiazolidinecarboxamide
010163 WA-95-0002 | Metasystox-R Spray Concentrate | S-(2-(Ethylsulfinyl)ethyl) O,O-dimethyl phosphorothioate
010163 WA-95-0003 | Metasystox-R Spray Concentrate | S-(2-(Ethylsulfinyl)ethyl) O,O-dimethyl phosphorothioate
010182 AZ-93-0007 | Prelude Termiticide/Insecticide | Cyclopropanecarboxylic acid, 3-(2,2-dichloroethenyl)-2,2-dimethyl-,
010182 AZ-93-0008 | Demon TC Insecticide | Cyclopropanecarboxylic acid, 3-(2,2-dichloroethenyl)-2,2-dimethyl-,
019713 AZ-94-0005 | Drexel Dimethoate 4EC | O,O-Dimethyl S-((methylcarbamoyl)methyl) phosphorodithioate
019713 AZ-96-0004 | Drexel Dimethoate 2.67 | O,O-Dimethyl S-((methylcarbamoyl)methyl) phosphorodithioate
041200-00002 | Rabon 350 Mineral | Gardona (cis-isomer)
062719 ID-94-0013 | Lorsban 4E-HF | O,O-Diethyl O-(3,5,6-trichloro-2-pyridyl) phosphorothioate
065361 CA-89-0059 | Plantfume 103 Smoke Generator | O,O,O,O-Tetraethyl dithiopyrophosphate
067379 AZ-90-0014 | Vinco Formaldehyde Solution | Formaldehyde
071711 ID-02-0005 | Moncut 70-DF | a,a,a-Trifluoro-3′-isopropoxy-o-toluanalide
071711 OR-01-0015 | Moncut 50WP | a,a,a-Trifluoro-3′-isopropoxy-o-toluanalide
075341-00001 | Hollow Heart Concentrate | Sodium arsenate
|  | Sodium dichromate
|  | Sodium fluoride
075341-00007 | Osmoplastic SD Wood Preserving Compound | Coal tar creosote
|  | Sodium dichromate
|  | Sodium fluoride

Unless a request is withdrawn by the registrant within 180 days (30 days where indicated) of publication of this notice, orders will be issued canceling all of these registrations. Users of these pesticides or anyone else desiring the retention of a registration should contact the applicable registrant directly during the indicated comment period.

Table 2 of this unit includes the names and addresses of record for all registrants of the products in Table 1 of this unit, in sequence by EPA company number:

Table 2—Registrants Requesting Voluntary Cancellation
EPA Company no. | Company Name and Address
000100 | Syngenta Crop Protection, Inc., Box 18300, Greensboro, NC 27419.
000279 | FMC Corp.Agricultural Products Group, 1735 Market St, Philadelphia, PA 19103.
000572 | Rockland Corp., 686 Passaic Ave.Box 809, West Caldwell, NJ 07007.
000655 | Prentiss Inc., C.B. 2000, Floral Park, NY 11001.
001757 | Drew Industrial Division, Ashland Chemical Co., One Drew Plaza, Boonton, NJ 07005.
003008 | Osmose Inc., 980 Ellicott St, Buffalo, NY 14209.
004822 | S.C. Johnson & Son Inc., 1525 Howe Street, Racine, WI 53403.
005011 | Aire-Mate Inc., Box 406, Westfield, IN 46074.
007173 | Liphatech, Inc., 3600 W. Elm Street, Milwaukee, WI 53209.
010163 | Gowan Co, Box 5569, Yuma, AZ 85366.
010182 | Zeneca Ag Products, Inc., Box 18300, Greensboro, NC 27419.
019713 | Drexel Chemical Co, 1700 Channel Ave.Box 13327, Memphis, TN 38113.
041200 | Midway Co-Op, Inc., Box 40, Osborne, KS 67473.
062719 | Dow Agrosciences LLC, 9330 Zionsville Rd 308/2E225, Indianapolis, IN 46268.
065361 | Glad-A-Way Gardens Inc., 2669 E. Clark Ave., Santa Maria, CA 93455.
067379 | Associated Citrus Packers Inc., 2 W. 6th St, Yuma, AZ 85364.
071711 | Nichino America, Inc., 4550 New Linden Hill Rd., Suite 501, Wilmington, DE 19808.
075341 | Osmose Utilities Services, Inc., 980 Ellicott Street, Buffalo, NY 14209.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before October 13, 2003 or May 16, 2003 for EPA Registration Numbers 003008-00021, 075341-00001 and 075341-00007. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: April 1, 2003.
Linda Vlier Moos
Acting Director, Information Resources Services Division, Office of Pesticide Programs.

[FR Doc. 03-8959 Filed 4-15-03; 8:45 am]

BILLING CODE 6560-50-S